DEPARTMENT OF STATE

[Public Notice: 12874]

Determination To Suspend the Imposition of Sanctions Pursuant to the Caesar Syria Civilian Protection Act of 2019

Acting under the authorities vested in me as Secretary of State, including through the applicable delegations of authority, I hereby make the following determination:

Pursuant to section 7431(a) of the Caesar Syria Civilian Protection Act of 2019 (22 U.S.C. 8791 note) (“the Act”), I determine that the criteria listed under section 7431 have been met to suspend the imposition of sanctions otherwise required by Section 7412 of the Act, and I hereby suspend for 180 days the imposition of such sanctions.

This suspension does not apply to transactions for or on behalf of the Government of the Russian Federation or the Government of Iran or related to the transfer or provision of Iranian-origin or Russian-origin goods, technology, software, funds, financing, or services.

This suspension shall take effect upon signature.

Dated: November 6, 2025.
Marco Rubio,
Secretary of State.

[FR Doc. 2025-21229 Filed 11-25-25; 8:45 am]

BILLING CODE 4710-07-M